DEPARTMENT OF DEFENSE

Department of the Air Force

[Docket ID USAF-2011-0007]

Privacy Act of 1974; System of Records

AGENCY: Department of the Air Force, DoD.

ACTION: Notice To Add a System of Records.

SUMMARY: The Department of the Air Force proposes to add a system of records to its inventory of record systems subject to the Privacy Act of 1974 (5 U.S.C. 552a), as amended.

DATES: This proposed action will be effective without further notice on April 4, 2011 unless comments are received which result in a contrary determination.

ADDRESSES: You may submit comments, identified by docket number and/RIN number and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles J. Shedrick, 703-696-6488, or Department of the Air Force Privacy Office, Air Force Privacy Act Office, Office of Warfighting Integration and Chief Information Officer, Attn: SAF/CIO A6, 1800 Air Force Pentagon, Washington, DC 20330-1800.

SUPPLEMENTARY INFORMATION: The Department of the Air Force's notices for systems of records subject to the Privacy Act of 1974 (5 U.S.C. 552a), as amended, have been published in the Federal Register and are available from the FOR FURTHER INFORMATION CONTACT address above.

The proposed systems reports, as required by 5 U.S.C. 552a(r) of the Privacy Act of 1974, were submitted on February 25, 2011, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: March 1, 2011.
Morgan F. Park,
Alternate OSD Federal Register Liaison Officer, Department of Defense.

F001 MRB A DoD

System Name:

Physical Disability Board of Review (PDBR) Records

System Location:

Physical Disability Board of Review, Air Force Review Boards Agency, Assistant Secretary of the Air Force, Manpower and Reserve Affairs, 1421 Jefferson Davis Highway, Suite 820, Arlington, VA 22202-3290.

Categories of individuals covered by the system:

Air Force, Army, Navy, Marine Corps, and Coast Guard veterans who have made application to appeal their Department of Defense physical disability rating(s).

Categories of records in the system:

Individual names, Social Security Number (SSN), address, prior military department affiliation, phone number, military service treatment records, Department of Veteran Affairs medical records, civilian medical records, legal counsel representation, and individual correspondence.

Authority for maintenance of the system:

10 U.S.C. 3013, Secretary of the Army; 10 U.S.C. 5014, Secretary of the Navy; 10 U.S.C. 8013, Secretary of the Air Force; 10 U.S.C. 5043, Commandant of the Marine Corps; U.S.C. 93, Commandant of the Coast Guard; DoDI 6040.44, Lead DoD Component for the Physical Disability Board of Review; and E.O. 9397 (SSN), as amended.

Purpose:

Information is used to justify a fair and accurate reassessment of a veteran's Department of Defense Physical Evaluation Board determination. Records provide all the necessary medical information to properly re-evaluate the military department's board determination and rating schedule.

Routine uses of records maintained in the system including categories of users and the purpose of such uses:

In addition to those disclosures generally permitted under 5 U.S.C. 552a(b) of the Privacy Act of 1974, these records contained therein may specifically be disclosed outside the (DoD) as a routine use pursuant to 5 U.S.C. 552a(b)(3) as follows:

The DoD ‘Blanket Routine Uses’ published at the beginning of the Air Force's compilation of record system notices apply to this system.

To the United States Coast Guard to assist them in the review of recommendations on physical disability ratings. By having this access, they can review and validate the findings.

To the Department of Veterans Affairs (DVA) for the purpose of reviewing and determining physical disability ratings.

To individual legal counsel or representatives to assist them in the defense of their client.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policy and practices for storing, retrieving, accessing, retaining, and disposing of records in the system:

Storage:

Paper records in file folders or electronic storage media.

Retrievability:

By individual's name and/or Social Security Number (SSN).

Safeguards:

Records are accessed by properly screened and cleared personnel with a need-to-know. Physical records are stored in a secured room. Electronic media is protected by appropriate hardware and software applications. Access authentication is validated through use of Computer Access Cards via user name and password protocols.

Retention and disposal:

Paper records: Destroy after electronic recordkeeping copy has been created and filed or when no longer needed for revision, dissemination, or reference, whichever is later, by pulping, shredding or burning.

Electronic systems that replace temporary hardcopy records: Destroy on expiration of the retention period previously approved for the corresponding hardcopy records.

Electronic systems that supplement temporary hardcopy records where the hardcopy records are retained to meet recordkeeping requirements: Destroy when the agency determines that electronic records are superseded, obsolete, or no longer needed for administrative, legal, audit, or other operational purposes.

Electronic records are destroyed by erasing, deleting, or overwriting.

System manager and address:

Physical Disability Board of Review, Air Force Review Boards Agency, Assistant Secretary of the Air Force, Manpower and Reserve Affairs, 1421 Jefferson Davis Highway, Suite 820, Arlington, VA 22202-3290.

Notification Procedure:

Individuals seeking to determine whether information about themselves is contained in this system of records should address written inquiries to the Physical Disability Board of Review, Air Force Review Boards Agency, 1421 Jefferson Davis Highway, Suite 820, Arlington, VA 22202-3290.

The requester must include the full name, military status, SSN, date of birth, and copy of proof of identify, such as a driver's license.

Record Access Procedure:

Individuals seeking access to information about themselves in this system of records should address written inquiries to the Physical Disability Board of Review, Air Force Review Boards Agency, 1421 Jefferson Davis Highway, Suite 820, Arlington, VA 22202-3290.

The requester must include the full name, military status, SSN, date of birth and copy of proof of identify, such as a driver's license.

In addition, the requestor must provide a notarized statement or an unsworn declaration made in accordance with 28 U.S.C 1746:

If executed outside the United States:

“I declare (or certify, verify, or state) under penalty of perjury under the laws of the United States of America that the foregoing is true and correct. Executed on (date). (Signature)”.

If executed within the United States, its territories, possessions, or commonwealths:

“I declare (or certify, verify, or state) under penalty of perjury that the foregoing is true and correct. Executed on (date). (Signature)”.

Contesting record procedures:

Air Force's rules for accessing records, and for contesting contents and appealing initial agency determinations are published in Secretary of the Air Force Instruction 33-332; 32 CFR part 806; or may be obtained from the system manager.

Record source categories:

Information is provided by the applicant, medical providers, military departments Physical Evaluation Boards, and Department of Veteran Affairs service treatment record providers.

Exemptions claimed for the system:

None.

[FR Doc. 2011-4926 Filed 3-3-11; 8:45 am]

BILLING CODE 5001-06-P